DEPARTMENT OF HOMELAND SECURITY

Coast Guard

[Docket No. USCG-2022-0047]

Port Access Route Study: Approaches to Maine, New Hampshire, and Massachusetts

AGENCY: Coast Guard, DHS.

ACTION: Notice of availability of draft report; extension of comment period.

SUMMARY: On January 3, 2023, the Coast Guard published a notice announcing the availability of a draft report of an Approaches to Maine, New Hampshire, and Massachusetts Port Access Route Study (MNMPARS). The notice we sent to the Office of the Federal Register provided for a 30-day comment period. But when the notice was published it listed a past date, February 2, 2022, as the end of the comment period. This document extends the intended comment period to a full 30 days from the date of publication of this notice. The Coast Guard seeks comments on the content, proposed routing measures, and development of the report. The recommendations of MNMPARS study may lead to future rulemakings or appropriate international agreements.

DATES: All comments and related material on the notice published at 88 FR 83 on January 3, 2022, must be received on or before February 13, 2023. Commenters should be aware that the electronic Federal Docket Management System will not accept comments after midnight, Eastern Daylight Time, on the last day of the comment period.

ADDRESSES: You may submit comments identified by docket number USCG-2022-0047 using the Federal eRulemaking Portal (http://www.regulations.gov). See the “Public Participation and Request for Comments” portion of the SUPPLEMENTARY INFORMATION section for further instructions on viewing the draft report and submitting comments.

FOR FURTHER INFORMATION CONTACT: If you have questions about this notice, call or email LTJG Thomas Davis, First Coast Guard District (dpw), U.S. Coast Guard: telephone (617) 223-8632, email SMB-D1Boston-MNMPARS@uscg.mil.

SUPPLEMENTARY INFORMATION: On January 3, 2023, the Coast Guard published a notice announcing the availability of a draft report of an Approaches to Maine, New Hampshire, and Massachusetts Port Access Route Study (MNMPARS) (88 FR 83). While the public inspection version of the notice (https://public-inspection.federalregister.gov/2022-28482.pdf) provided a 30-day comment period notice, the DATES section of that published notice stated that comments and related material must be received on or before “February 2, 2022.” Because this was a past date, regulations.gov did not accept comments in our online docket. We attempted to get the Office of the Federal Register to correct but a correction has not yet been published.

If we were to simply correct the end of the comment period date in the document published January 3, 2023, that would not provide a full comment period. To provide those interested in commenting on the report a full 30-day comment period, the Coast Guard is extending the comment period to February 13, 2023. If the Office of the Federal Register issues a correction to the date in the January 3, 2022 notice, that will not impact this extension of the comment period. You will have from January 12, 2023 (if not earlier) to February 13, 2023.

The draft report is available at this specific address in the docket: https://www.regulations.gov/document/USCG-2022-0047-0044. This notice is published under the authority of 5 U.S.C. 552(a).

Dated: January 6, 2023.
James E. McLeod,
Acting Chief, Office of Regulations and Administrative Law.

[FR Doc. 2023-00418 Filed 1-11-23; 8:45 am]

BILLING CODE 9110-04-P